DEPARTMENT OF TRANSPORTATION

Federal Aviation Administration

14 CFR Part 39

[Docket No. FAA-2015-5814; Directorate Identifier 2014-NM-247-AD; Amendment 39-18639; AD 2016-18-09]

RIN 2120-AA64

Airworthiness Directives; Airbus Airplanes

AGENCY: Federal Aviation Administration (FAA), Department of Transportation (DOT).

ACTION: Final rule.

SUMMARY: We are adopting a new airworthiness directive (AD) for certain Airbus Model A318, A319, and A320 series airplanes. This AD was prompted by reports of chafing damage on the fuselage skin at the bottom of certain frames, underneath the fairing structure. This AD requires repetitive detailed inspections for damage on the fuselage skin at certain frames, and applicable related investigative and corrective actions. We are issuing this AD to detect and correct damage to the fuselage skin, which could lead to crack initiation and propagation, possibly resulting in reduced structural integrity of the fuselage.

DATES: This AD is effective October 13, 2016.

The Director of the Federal Register approved the incorporation by reference of certain publications listed in this AD as of October 13, 2016.

ADDRESSES: For service information identified in this final rule, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-5814.

Examining the AD Docket

You may examine the AD docket on the Internet at http://www.regulations.gov by searching for and locating Docket No. FAA-2015-5814; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 by adding an AD that would apply to certain Airbus Model A318, A319, and A320 series airplanes. The NPRM published in the Federal Register on November 27, 2015 (80 FR 74045) (“the NPRM”).

The European Aviation Safety Agency (EASA), which is the Technical Agent for the Member States of the European Union, has issued EASA AD 2014-0259, dated December 5, 2014 (referred to after this as the Mandatory Continuing Airworthiness Information, or “the MCAI”), to correct an unsafe condition for certain Airbus Model A318, A319, and A320 series airplanes. The MCAI states:

An operator reported finding chafing damage on the fuselage skin at the bottom of frame (FR) 34 junction between stringer (STR) 43 left hand (LH) side and right hand (RH) side on several aeroplanes, underneath the fairing structure.

After investigation, a contact between the fairing nut plate and the fuselage was identified, causing damage to the fuselage.

This condition, if not detected and corrected, could lead to crack initiation and propagation, possibly resulting in reduced structural integrity of the fuselage.

For the reason described above, this [EASA] AD requires repetitive detailed inspections (DET) of the fuselage [for chafing] at FR 34 and provides an optional terminating action [modification of the belly fairing] to the repetitive inspections required by this [EASA] AD.

Related investigative actions include a special detailed inspection of external fuselage skin panel for any cracking, and measurement of crack length and remaining thickness. Corrective actions include repair or modification of the fuselage skin panel. You may examine the MCAI in the AD docket on the Internet at http://www.regulations.gov by searching for and locating Docket No. FAA-2015-5814.

Comments

We gave the public the opportunity to participate in developing this AD. The following presents the comments received on the NPRM and the FAA's response to each comment.

Request To Use Latest Service Information

Airbus requested that we revise paragraph (i) of the NPRM to add Airbus Service Bulletin A320-53-1281, Revision 02, including Appendix 01, dated October 9, 2015.

United Airlines also requested that we revise paragraph (i) of the NPRM to add Airbus Service Bulletin A320-53-1281, Revision 02, including Appendix 01, dated October 9, 2015, and provide credit for Airbus Service Bulletin A320-53-1281, Revision 01, dated December 1, 2014. United Airlines explained that Airbus Service Bulletin A320-53-1281, Revision 02, including Appendix 01, dated October 9, 2015, includes numerous configuration additions.

For the reasons stated by the commenter, we agree to revise this AD to include Airbus Service Bulletin A320-53-1281, Revision 02, including Appendix 01, dated October 9, 2015. Airbus Service Bulletin A320-53-1281, Revision 02, including Appendix 01, dated October 9, 2015, includes, among other things, configuration changes, new configurations, and revision of the Manufacturer Serial Numbers (MSNs), but adds no new actions. We also included Airbus Service Bulletin A320-53-1281, Revision 01, dated December 1, 2014, in paragraph (j) of this AD, as credit for certain actions performed before the effective date of this AD.

Request To Allow Use of Any Airbus-Approved Corrective Action

Airbus requested that we revise the NPRM to add a paragraph that allows for any corrective action provided by Airbus. Airbus stated that in case of deviation during service information embodiment, the only solution to cover the deviation for the customer is to ask for an alternative method of compliance (AMOC). Airbus included the following example, which allows any corrective action provided by Airbus:

If, during modification of an aeroplane as required by paragraph (1) of this AD, a difference (see Note) is detected which makes the accomplishment of a part of the modification instructions impossible, before next flight, contact Airbus for approved instructions and accomplish those instructions accordingly, including follow-on action(s), as applicable.

Note: For the purpose of this AD, the detected difference can be either:

(a) a necessary design deviation due to production related concessions that directly affect the sensitive area of the modification;

(b) an obvious typographical error in the SB instructions; or

(c) an aircraft configuration not (yet) included in/addressed by the SB instructions.

We disagree to add a paragraph that allows for any corrective action provided by Airbus, because CFR 39.19 requires approval of an AMOC for an alternative method to mitigate the risk associated with the unsafe condition addressed in an AD. The FAA uses its discretion in determining actions within the provision of an AMOC. We have made no changes to this AD in this regard.

Request To Clarify Steps Required for Compliance

United Airlines requested that we revise the NPRM to clarify that the actions that are required for compliance (RC) are limited to the steps in paragraphs 3.C. and 3.D. of Airbus Service Bulletin A320-53-1287, dated July 29, 2014; Airbus Service Bulletin A320-53-1281, Revision 02, including Appendix 01, dated October 9, 2015; and Airbus Service Bulletin A320-53-1281, Revision 01, dated December 1, 2014. The commenter noted that paragraph 3.D. contains no test requirements.

We agree with the request, although, as the commenter noted, paragraph 3.D. of the referenced service information does not include any test requirements. We have therefore revised paragraphs (g) and (i) of this AD to limit the requirements to paragraph 3.C., “Procedure,” of the service information.

Request for Clarification of Compliance Methods and Intervals

United Airlines requested that we clarify whether the inspections specified in the NPRM and Airbus Service Bulletin A320-53-1287, dated July 29, 2014, override the inspection methods and intervals defined in structures repair manual (SRM) 53-21-11 PB 101, and whether the terminating action in paragraph (i) of the proposed AD terminates the inspections in SRM 53-21-11 PB 101 following rework. The commenter stated that SRM 53-21-11 PB 101 defines different inspection methods, threshold, and repetitive intervals.

We agree that clarification is necessary. We recognize that there may be a conflict between the inspections specified in this AD and SRM 53-21-11 PB 101. The requirements of this AD were developed to address a known unsafe condition and prevail over the actions of previously developed service information provided by a manufacturer. We have made no changes to this AD in this regard.

Request for Clarification of Limit

United Airlines requested that we revise paragraph (g)(3) of the proposed AD to clarify the “limits” of detected damage. Paragraph (g)(3) of the proposed AD refers to damage that exceeds the limits defined in Airbus Service Bulletin A320-53-1287, dated July 29, 2014. United Airlines noted that this limit relates to the remaining skin thickness as defined by SRM 53-21-11 PB 101, but the meaning of “remaining thickness out of limits” is inconclusive. United Airlines stated that the remaining skin thickness following a blend out could become a Category ‘B’ repair with subsequent inspections or a Category ‘C’ repair, eventually requiring doubler repair. United Airlines stated that Airbus Service Bulletin A320-53-1287, dated July 29, 2014, does not give instructions to accomplish a doubler repair if the remaining thickness is within SRM 53-21-11 PB 101 limits. United Airlines stated that it would not be wise to install an external doubler (unless necessary) if the remaining skin thickness is “within limits.” The commenter therefore proposed that we clarify the “limit” as an allowable rework (blend out) that does not require repair (doubler installation).

We agree that clarification is necessary. If Subtask 531287-832-002-001 of Airbus Service Bulletin A320-53-1287, dated July 29, 2014, is performed, and no crack is found, and the measurement of the remaining thickness of fuselage skin exceeds certain limits, then Airbus Service Bulletin A320-53-1287, dated July 29, 2014, specifies contacting Airbus for repair instructions. The corresponding requirement in paragraph (g)(3) of this AD, requires that those repairs be done using a method approved by the FAA, EASA, or Airbus's EASA Design Organization Approval. Repair instructions are established based on the inspection results shared with Airbus, which may vary on a case-by-case basis. We have made no changes to this final rule in this regard.

Request for Inclusion of Previously Repaired Area in Inspection

United Airlines requested that we revise paragraph (g)(1) of the proposed AD to include damage on the “fuselage skin or skin repair (if present)” for the required detailed inspection. United Airlines explained that it experienced several issues of skin chafing prior to the release of Airbus Service Bulletin A320-53-1287, dated July 29, 2014; as a result, some airplanes have needed doubler repairs due to skin wear beyond remaining thickness allowed. The commenter stated that because repairs may be present, it will not be possible to inspect the skin in the chafing area.

For the reasons stated by the commenter, we agree to include previously repaired areas for the inspection required by paragraph (g)(1) of this AD. We have revised paragraph (g)(1) of this AD accordingly.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed Airbus Service Bulletin A320-53-1281, Revision 02, including Appendix 01, dated October 9, 2015; and Airbus Service Bulletin A320-53-1287, dated July 29, 2014. The service information describes procedures for a detailed inspection for damage (including chafing marks) on the fuselage skin at FR 34 between STR 43 LH and RH sides, and applicable related investigative and corrective actions. This service information is reasonably available because the interested parties have access to it through their normal course of business or by the means identified in the ADDRESSES section.

Costs of Compliance

We estimate that this AD affects 642 airplanes of U.S. registry.

We also estimate that it would take about 12 work-hours per product to comply with the basic requirements of this AD. The average labor rate is $85 per work-hour. Required parts would cost about $90 per product. Based on these figures, we estimate the cost of this AD on U.S. operators to be $712,620, or $1,110 per product.

In addition, we estimate that any necessary follow-on actions would take about 21 work-hours and require parts costing $3,550, for a cost of $5,335 per product. We have no way of determining the number of aircraft that might need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

AD 2016-18-09 Airbus: Amendment 39-18639; Docket No. FAA-2015-5814; Directorate Identifier 2014-NM-247-AD.

(a) Effective Date

This AD is effective October 13, 2016.

(b) Affected ADs

None.

(c) Applicability

This AD applies to the airplanes identified in paragraphs (c)(1), (c)(2), and (c)(3) of this AD, certificated in any category, all manufacturer serial numbers, except those on which Airbus Modification 37878 has been embodied in production, or Airbus Service Bulletin A320-53-1281 has been done in service.

(1) Airbus Model A318-111, -112, -121, and -122 airplanes.

(2) Airbus Model A319-111, -112, -113, -114, -115, -131, -132, and -133 airplanes.

(3) Airbus Model A320-211, -212, -214, -231, -232, and -233 airplanes.

(d) Subject

Air Transport Association (ATA) of America Code 53, Fuselage.

(e) Reason

This AD was prompted by reports of chafing damage on the fuselage skin at the bottom of certain frames, underneath the fairing structure. We are issuing this AD to detect and correct damage to the fuselage skin, which could lead to crack initiation and propagation, possibly resulting in reduced structural integrity of the fuselage.

(f) Compliance

Comply with this AD within the compliance times specified, unless already done.

(g) Repetitive Inspection and Corrective Action

(1) Within the compliance times identified in paragraphs (g)(1)(i) and (g)(1)(ii) of this AD, whichever occurs later, do a detailed inspection for damage (including chafing marks) on the fuselage skin, including previously repaired areas, at frame (FR) 34 between stringer (STR) 43 on the left-hand and right-hand sides, in accordance with paragraph 3.C., “Procedure,” of Airbus Service Bulletin A320-53-1287, dated July 29, 2014. Repeat the inspection thereafter at intervals not to exceed 12,000 flight cycles or 24,000 flight hours, whichever occurs first.

(i) Before exceeding 12,000 flight cycles or 24,000 flight hours, whichever occurs first since the airplane's first flight.

(ii) Within 5,000 flight cycles or 10,000 flight hours, whichever occurs first after the effective date of this AD.

(2) If any damage is detected during any inspection required by paragraph (g)(1) of this AD, before further flight, do all applicable related investigative and corrective actions, in accordance with the Accomplishment Instructions of Airbus Service Bulletin A320-53-1287, dated July 29, 2014, except as required by paragraph (g)(3) of this AD.

(3) If any cracking is found during any related investigative action required by paragraph (g)(2) of this AD, or if any damage detected during the inspection required by paragraph (g)(1) of this AD exceeds the limits defined in the Accomplishment Instructions of Airbus Service Bulletin A320-53-1287, dated July 29, 2014, before further flight, repair using a method approved by the Manager, International Branch, ANM-116, Transport Airplane Directorate, FAA; or the European Aviation Safety Agency (EASA); or Airbus's EASA Design Organization Approval (DOA).

(h) Non-Terminating Repair Action

Accomplishment of a repair on an airplane as required by paragraphs (g)(2) and (g)(3) of this AD, does not constitute terminating action for the repetitive detailed inspections required by paragraph (g)(1) of this AD, unless the approved repair indicates otherwise.

(i) Terminating Action for the Repetitive Detailed Inspections

Modification of the belly fairing on any airplane in accordance with paragraph 3.C., “Procedure,” of Airbus Service Bulletin A320-53-1281, Revision 02, including Appendix 01, dated October 9, 2015, constitutes terminating action for the repetitive detailed inspections required by paragraph (g)(1) of this AD for that airplane.

(j) Credit for Previous Actions

This paragraph provides credit for actions required by paragraph (i) of this AD, if those actions were performed before the effective date of this AD using Airbus Service Bulletin A320-53-1281, dated July 29, 2014; or Airbus Service Bulletin A320-53-1281, Revision 01, dated December 1, 2014. This service information is not incorporated by reference in this AD.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

(1) Refer to Mandatory Continuing Airworthiness Information (MCAI) EASA Airworthiness Directive 2014-0259, dated December 5, 2014, for related information. This MCAI may be found in the AD docket on the Internet at http://www.regulations.gov by searching for and locating Docket No. FAA-2015-5814.

(2) Service information identified in this AD that is not incorporated by reference is available at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-53-1281, Revision 02, including Appendix 01, dated October 9, 2015.

(ii) Airbus Service Bulletin A320-53-1287, dated July 29, 2014.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 24, 2016.
John P. Piccola, Jr.,
Acting Manager, Transport Airplane Directorate, Aircraft Certification Service.

[FR Doc. 2016-21144 Filed 9-7-16; 8:45 am]

BILLING CODE 4910-13-P